AGENCY FOR INTERNATIONAL DEVELOPMENT

Board for International Food and Agricultural Development, One Hundred and Forty-Second Meeting; Notice of Meeting

Pursuant to the Federal Advisory Committee Act, notice is hereby given of the one hundred and forty-second meeting of the Board for International Food and Agricultural Development (BIFAD). The meeting will be held from 1 p.m. to 6 p.m. on October 13, 2004 in the Marriott Hotel, 7th and Grand Avenue, Des Moines, Iowa. The meeting is being held in conjunction with the World Food Prize events scheduled for October 14-15 in Des Moines.

The BIFAD will interact with Mid-West representatives from the U.S. university, Collaborative Research Support Programs (CRSPs), agribusiness and private sector communities along with international agriculture leaders from Africa and the Middle East. Themes will focus on building capacity for agriculture led growth, human and institutional capacity building, emerging issues in international development, and other items of general interest.

The meeting is free and open to the public. Those wishing to attend the meeting or obtain additional information about BIFAD should contact John Swanson, the Designated Federal Officer for BIFAD. Write him in care of the U.S. Agency for International Development, Ronald Reagan Building, Office of Agriculture and Food Security, 1300 Pennsylvania Avenue, NW., Room 2.11-06, Washington DC, 20523-2110 or telephone him at (202) 712-5602 or fax (202) 216-3010.

John Swanson,
USAID Designated Federal Officer for BIFAD, Office of Agriculture and Food Security, Bureau for Economic Growth, Agriculture & Trade.

[FR Doc. 04-20841 Filed 9-15-04; 8:45 am]

BILLING CODE 6116-01-P